COMMISSION ON CIVIL RIGHTS

Sunshine Act Notice

AGENCY: United States Commission on Civil Rights.

ACTION: Notice of meeting cancellation.

SUMMARY: On October 12, 2010 (75 FR 63144-63145), the U.S. Commission on Civil Rights announced a business meeting to be held on Friday, November 5, 2010 at the Commission's headquarters. On Wednesday, November 3, 2010, the meeting was cancelled. The decision to cancel the meeting was too close in time to the date and time of the meeting for the publication of a cancellation notice to appear in advance of the scheduled meeting date. The details of the cancelled meeting are:

DATE AND TIME: Friday, November 5, 2010; 8:30 a.m. EDT

PLACE: 624 Ninth Street, NW., Room 540, Washington, DC 20425.

Meeting Agenda

This meeting is open to the public.

I. Approval of Agenda

II. Program Planning

• Approval of Project Outline and Discovery Plan for FY 2011 Enforcement Report.

• Discussion of Possible Briefing Topics for FY 2011.

• Update on Status of Briefing on Disparate Impact in School Discipline Policies.

III. Management & Operations

• Expiration of Commissioner Terms.

IV. State Advisory Committee Issues

• Wisconsin SAC.

V. Approval of Minutes of October 29 Meeting

VI. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: November 5, 2010.
David Blackwood,
General Counsel.

[FR Doc. 2010-28354 Filed 11-5-10; 11:15 am]

BILLING CODE 6335-01-P